ENVIRONMENTAL PROTECTION AGENCY

[OECA-2004-0047; FRL-7953-3]

Agency Information Collection Activities; Submission for OMB Review and Approval; Comment Request; National Emission Standards for Hazardous Air Pollutant Emissions for Polyether Polyol Production, ICR Number 1811.05, OMB Number 2060-0415

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on September 30, 2005. Under OMB regulations, the Agency may continue to conduct or sponsor the collection of information while this submission is pending at OMB. This ICR describes the nature of the information collection and its estimated burden and cost.

DATES: Additional comments may be submitted on or before September 15, 2005.

ADDRESSES: Submit your comments, referencing docket ID number OECA-2004-0047, to (1) EPA online using EDOCKET (our preferred method), by e-mail to docket.oeca@epa.gov, or by mail to: EPA Docket Center, Environmental Protection Agency, Enforcement and Compliance Docket and Information Center, Mail Code 2201T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Marcia B. Mia, Compliance Assessment and Media Programs Division (CAMPD), Office of Compliance (OC), 2223A, Environmental Protection Agency, 1200 Pennsylvania Ave., NW., Washington, DC 20460; telephone number: (202) 564-7042]; fax number: (202) 564-0050; e-mail address: mia.marcia@epa.gov.

SUPPLEMENTARY INFORMATION: EPA has submitted the following ICR to OMB for review and approval according to the procedures prescribed in 5 CFR 1320.12. On December 1, 2004, (69 FR 69909), EPA sought comments on this ICR pursuant to 5 CFR 1320.8(d). EPA received no comments.

EPA has established a public docket for this ICR under Docket ID No. OECA-2004-0047, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: National Emission Standards for Hazardous Air Pollutant Emissions for Polyether Polyol Production.

Abstract: The National Emissions Standards for Hazardous Air Pollutants for Polyether Polyols Production, (40 CFR part 63, subpart PPP) was proposed on June l, 1999 and published January 30, 2002. These regulations apply to new and existing facilities that engage in the manufacture of polyether polyols (which also include polyether mono-ols) and emit hazardous air pollutants (HAP). Owners or operators of polyether polyols production facilities to which this regulation is applicable must choose one of the compliance options described in the rule or install and monitor a specific control system that reduces HAP emissions to the compliance level. The respondents are also subject to sections of 40 CFR part 63, subpart A.

All existing sources must be in compliance with the requirements of subpart PPP within three years of the effective date (promulgation date) of standards for an affected source. All new sources must be in compliance with the requirements of subpart PPP upon startup or the promulgation date of standards for an affected source, whichever is later. Compliance is assumed through initial performance testing or design analysis, as appropriate, and ongoing compliance is demonstrated through parametric monitoring. Types of parameters monitored are incinerator temperature, scrubber flow rate, carbon adsorber regeneration frequency as well as others. The appropriate parameter to monitor depends on the type of control device with which the owner or operator chooses to comply.

An agency may not conduct or sponsor, and a person is not required to respond to, a collection of information unless it displays a currently valid OMB Control Number. The OMB Control Numbers for EPA's regulations in 40 CFR are listed in 40 CFR part 9 and are identified on the form and/or instrument, if applicable.

Burden Statement: The annual public reporting and recordkeeping burden for this collection of information is estimated to average 80 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Producers of Polyether Polyols; primarily Standard Industrial Classification (SIC) codes 2834 and 2869 and the corresponding North American Industry Classification System (NAICS) codes 325613 and 325199.

Estimated Number of Respondents: 82.

Frequency of Response: Annually, semi-annually and on occasion.

Estimated Total Annual Hour Burden: 13,042 hours.

Estimated Total Capital and Operations and Maintenance Annual Cost: $203,012 which includes $203,012 annualized capital/startup costs and no O&M costs.

Changes in the Estimates: The decrease in burden from the most recently approved ICR is due to adjustment in both the types of information which must be collected and the number of sources submitting the required information. Specifically, the following burden items, which were in the previous ICR, were deleted from this ICR because they are not required under the rule:

Notification of demonstration of continuous monitoring system (CMS); Submittal of quality control plan for CMS; Notification of anticipated startup.

There is also no separate report required for monitoring exceedences; the burden associated with this is captured in the semi-annual report burden, so this burden was deleted, to avoid double counting. Additionally, based on the assumptions in the most previously approved ICR, the correct number for sources submitting notifications of construction/reconstruction, compliance status, and actual startup are only the new sources, or 1. Finally, the number of sources performing leak detection and repair (LDAR) and submitting semi-annual reports includes both new and existing sources, or 82.

The Capital/Startup costs as calculated in this ICR's section 6(b)(iii) compared with the costs in the previous ICR have decreased. The previous ICR incorrectly calculated the capital/startup costs. This ICR renewal also includes the continued capital depreciation costs, per OMB's Terms of Clearance (TOC) for the previously approved ICR.

Dated: August 8, 2005.
Oscar Morales,
Director, Collection Strategies Division.

[FR Doc. 05-16197 Filed 8-15-05; 8:45 am]

BILLING CODE 6560-50-P